DEPARTMENT OF THE INTERIOR

Fish and Wildlife Service

[FWS-R8-ES-2010-N119; 80221-1113-0000-F5]

Endangered Species Recovery Permit Applications

AGENCY: Fish and Wildlife Service, Interior.

ACTION: Notice of receipt of permit applications; request for comment.

SUMMARY: We, the U.S. Fish and Wildlife Service, invite the public to comment on the following applications to conduct certain activities with endangered species. With some exceptions, the Endangered Species Act (Act) prohibits activities with endangered and threatened species unless a Federal permit allows such activity. The Act also requires that we invite public comment before issuing these permits.

DATES: Comments on these permit applications must be received on or before July 14, 2010.

ADDRESSES: Written data or comments should be submitted to the U.S. Fish and Wildlife Service, Endangered Species Program Manager, Region 8, 2800 Cottage Way, Room W-2606, Sacramento, CA 95825 (telephone: 916-414-6464; fax: 916-414-6486). Please refer to the respective permit number for each application when submitting comments.

FOR FURTHER INFORMATION CONTACT: Daniel Marquez, Fish and Wildlife Biologist; see ADDRESSES (telephone: 760-431-9440; fax: 760-431-9624).

SUPPLEMENTARY INFORMATION: The following applicants have applied for scientific research permits to conduct certain activities with endangered species under section 10(a)(1)(A) of the Act (16 U.S.C. 1531 et seq.). We seek review and comment from local, State, and Federal agencies and the public on the following permit requests. Before including your address, phone number, e-mail address, or other personal identifying information in your comment, you should be aware that your entire comment—including your personal identifying information—may be made publicly available at any time. While you can ask us in your comment to withhold your personal identifying information from public review, we cannot guarantee that we will be able to do so.

Permit No. TE-053736-1

Applicant: Barbara A Garrison, Tucson, Arizona.

The applicant requests an amendment to an existing permit (March 29, 2002, 67 FR 15222) to take (harass by survey) the southwestern willow flycatcher (Empidonax traillii extimus) in conjunction with surveys throughout the range of the species in California for the purpose of enhancing its survival.

Permit No. TE-118641

Applicant: Jodi McGraw Consulting, Corralitos, California.

The applicant requests an amendment to an existing permit (April 19, 2006, 71 FR 20121) to take (capture and release) the Zayante band-winged grasshopper (Trimerotropis infantilis) and Mount Hermon June beetle (Polyphylla barbata) in conjunction with habitat maintenance and restoration activities throughout the range of each species in California for the purpose of enhancing their survival.

Permit No. TE-107075

Applicant: Steven Powell, San Pablo, California.

The applicant requests an amendment to an existing permit (August 9, 2005, 70 FR 46185) to take (survey, capture, handle, and release) the salt marsh harvest mouse (Reithrodontomys raviventris) and take (survey, capture, handle, kill and remove from the wild) the California tiger salamander (Ambystoma californiense) in conjunction with surveys, population monitoring, and habitat enhancement activities throughout the range of each species in California for the purpose of enhancing their survival.

Permit No. TE-12537A

Applicant: Daniella J. Dekelaita, Monte Rio, California.

The applicant requests a permit to take (survey, capture, handle, and release) the California tiger salamander (Ambystoma californiense) in conjunction with surveys and population monitoring throughout the range of the species in Sonoma and Santa Barbara Counties, California, for the purpose of enhancing its survival.

Permit No. TE-12511A

Applicant: Kathryn M. Allan, San Francisco, California.

The applicant requests a permit to take (survey, capture, handle, and release) the salt marsh harvest mouse (Reithrodontomys raviventris) in conjunction with surveys and population monitoring activities throughout the range of the species in California for the purpose of enhancing its survival.

Permit No. TE-14231A

Applicant: Caesara W. Brungraber, San Diego, California.

The applicant requests a permit to take (capture, collect, and kill) the Riverside fairy shrimp (Streptocephalus wootoni) and the San Diego fairy shrimp (Branchinecta sandiegonensis) in conjunction with surveys and population monitoring throughout the range of each species in California for the purpose of enhancing their survival.

Permit No. TE-045994

Applicant: U.S. Geological Survey, Biological Resources Division, Western Ecological Research Center, San Diego Field Station, San Diego, California.

The applicant requests an amendment to an existing permit (July 7, 2009, 74 FR 32179) to take, (transport and release) the mountain yellow-legged frog (Rana muscosa) in conjunction with a captive breeding and translocation program in Riverside, San Bernardino, and Los Angeles Counties, California, for the purpose of enhancing its survival.

Permit No. TE-14237A

Applicant: Wildlife Science Center, Livermore, California.

The applicant requests a permit to take (survey, capture, handle, and release) the California tiger salamander (Ambystoma californiense) in conjunction with surveys and population monitoring throughout the range of the species in California for the purpose of enhancing its survival.

We invite public review and comment on each of these recovery permit applications. Comments and materials we receive will be available for public inspection, by appointment, during normal business hours at the address listed in the ADDRESSES section of this notice.

Michael Long,
Acting Regional Director, Region 8, Sacramento, California.

[FR Doc. 2010-14165 Filed 6-11-10; 8:45 am]

BILLING CODE 4310-55-P